RAILROAD RETIREMENT BOARD

20 CFR Part 217

RIN 3220-AB46

Application for Annuity or Lump Sum

AGENCY: Railroad Retirement Board.

ACTION: Final rule.

SUMMARY: The Railroad Retirement Board (Board) amends its regulations to permit a spouse application, when filed simultaneously with the employee's application for a disability annuity, to be filed more than three months in advance of the earliest annuity beginning date. These changes bring §§ 217.9 and 217.30 into agreement with the distinction already found in § 218.7.

DATES: Effective June 25, 2002.

FOR FURTHER INFORMATION CONTACT: Marguerite P. Dadabo, Assistant General Counsel, Railroad Retirement Board (312) 751-4945, TTD (312) 751-4701.

SUPPLEMENTARY INFORMATION: Section 217.9 of the regulations of the Board provides for the effective period of an application. This rule amends § 217.9(b) to permit a spouse application, when filed simultaneously with the employee's application for a disability annuity, to be filed more than three months in advance of the earliest annuity beginning date. This rule also makes a conforming amendment to § 217.30 concerning the reasons for denial of an application, and provides greater clarity for such denials.

The Board published the proposed rule on November 29, 2001 (66 FR 59548), and invited comments by January 28, 2002. No comments were received. Accordingly, the proposed rule has been redrafted as a final rule without change.

The Board, with the concurrence of the Office of Management and Budget, has determined that this is not a significant regulatory action under Executive Order 12866. Therefore, no regulatory analysis is required. Information collections associated with § 217.9 have been approved by the Office of Management and Budget under control number 3220-0002.

List of Subjects in 20 CFR Part 217

Claims, Railroad retirement, Reporting and record keeping requirements.

For the reasons set out in the preamble, the Railroad Retirement Board amends title 20, chapter II, part 217 of the Code of Federal Regulations as follows:

PART 217—APPLICATION FOR ANNUITY OR LUMP SUM

1. The authority citation for part 217 continues to read as follows:

Authority: 45 U.S.C. 231d and 45 U.S.C. 231f.

2. Section 217.9, paragraph (b)(1), is amended by adding directly after the words “paragraph (b)(2)”, the words “and paragraph (b)(3)”, and by adding a new paragraph (b)(3) to read as follows:

§ 217.9 Effective period of application.

* * * * *

(b) * * *

(3) Application for spouse annuity filed simultaneously with employee disability annuity application. When the qualifying employee's annuity application effective period is determined by the preceding paragraph (b)(2) of this section, a spouse who meets all eligibility requirements may file an annuity application on the same date as the employee claimant. The spouse application will be treated as though it were filed on the later of the actual filing date or the employee's annuity beginning date.

* * * * *

3. Section 217.30 is amended by removing paragraph (b), redesignating paragraph (c) as paragraph (b), and by adding a new paragraph (c) to read as follows:

§ 217.30 Reasons for denial of application.

* * * * *

(c) The applicant files an application more than three months before the date on which the eligible person's benefit can begin except if the application is for an employee disability annuity or for a spouse annuity filed simultaneously with the employee's disability annuity application.

Dated: June 18, 2002.
By Authority of the Board.
For the Board.
Beatrice Ezerski,
Secretary to the Board.

[FR Doc. 02-15911 Filed 6-24-02; 8:45 am]

BILLING CODE 7905-01-P